DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its “Technology Partnerships Ombudsmen Reporting Requirements”, OMB Control Number 1910-5188. This information collection request covers information necessary to implement a statutory requirement that the Technology Transfer Ombudsmen report quarterly on complaints they receive.

DATES: Comments regarding this collection must be received on or before January 17, 2012. If you anticipate that you will be submitting comments, but find it difficult to do so within the period of time allowed by this notice, please advise the OMB Desk Officer of your intention to make a submission as soon as possible. The Desk Officer may be telephoned at (202) 395-4650.

ADDRESSES: Written comments should be sent to the:

DOE Desk Officer, Office of Information and Regulatory Affairs, Office of Management and Budget, New Executive Office Building, Room 10102, 735 17th Street NW., Washington, DC 20503; and to

Kathleen M. Binder, HG-6, Director, Office of Conflict Prevention and Resolution, U.S. Department of Energy, 1000 Independence Avenue SW., Washington, DC 20585, Kathleen.binder@hq.doe.gov, (202) 287-1415 (facsimile).

FOR FURTHER INFORMATION CONTACT: Kathleen M. Binder at the address listed in ADDRESSES.

SUPPLEMENTARY INFORMATION: This information collection request contains: (1) OMB No. 1910-5188; (2) Information Collection Request Title: Technology Transfer Ombudsmen Reporting Requirements; (3) Type of Request: Renewal; (4) Purpose: The information collected will be used to determine whether the Technology Partnerships Ombudsmen are properly helping to resolve complaints from outside organizations regarding laboratory policies and actions with respect to technology partnerships; (5) Annual Estimated Number of Respondents: 22; (6) Annual Estimated Number of Total Responses: 88; (7) Annual Estimated Number of Burden Hours: 50; (8) Annual Estimated Reporting and Recordkeeping Cost Burden: 0.

Statutory Authority: Section 11 of the Technology Transfer Commercialization Act of 2000, Public Law 106-404, codified at 42 U.S.C. 7261c(c)(3)(C).

Issued in Washington, DC, on December 13, 2011.
Kathleen M. Binder,
Director, Office of Conflict Prevention and Resolution, Office of Hearings and Appeals.

[FR Doc. 2011-32251 Filed 12-15-11; 8:45 am]

BILLING CODE 6450-01-P